DEPARTMENT OF ENERGY

Federal Energy Regulatory Commission

Combined Notice of Filings

Take notice that the Commission has received the following Part 284 Natural Gas Pipeline Rate filings:

Filings Instituting Proceedings

Docket Numbers: RP22-473-000.

Applicants: Rover Pipeline LLC.

Description: § 4(d) Rate Filing: Summary of Negotiated Rate Capacity Release Agreements on 1-4-22 to be effective 1/1/2022.

Filed Date: 1/4/22.

Accession Number: 20220104-5078.

Comment Date: 5 p.m. ET 1/18/22.

Docket Numbers: RP22-474-000.

Applicants: Dominion Energy Questar Pipeline, LLC.

Description: § 4(d) Rate Filing: Statement of Negotiated Rates V 19.0.0, Ovintiv TSA No. 6742 to be effective 1/1/2022.

Filed Date: 1/4/22.

Accession Number: 20220104-5114.

Comment Date: 5 p.m. ET 1/18/22.

Docket Numbers: RP22-475-000.

Applicants: Rover Pipeline LLC.

Description: § 4(d) Rate Filing: Summary of Negotiated Rate Capacity Release Agreements on 1-5-22 to be effective 1/5/2022.

Filed Date: 1/5/22.

Accession Number: 20220105-5043.

Comment Date: 5 p.m. ET 1/18/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

Dated: January 5, 2022.
Debbie-Anne A. Reese,
Deputy Secretary.

[FR Doc. 2022-00499 Filed 1-12-22; 8:45 am]

BILLING CODE 6717-01-P